DEPARTMENT OF COMMERCE

National Oceanic and Atmospheric Administration

[I.D. 041207G]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species (CPS) advisory bodies will hold meetings, which are open to the public, on May 8-10, 2007. The primary purpose of the meetings is to review the current Pacific mackerel stock assessment and develop harvest guideline and seasonal structure recommendations for the 2007-08 Pacific mackerel fishery.

DATES: The Coastal Pelagic Species Management Team (CPSMT) will hold a work session Tuesday, May 8, 2007, from 1 p.m. until business for the day is completed and will reconvene on Wednesday, May 9, 2007, from 8 a.m. until business for the day is completed. The Coastal Pelagic Species Advisory Subpanel (CPSAS) will meet Thursday, May 10, 2007, from 8:30 a.m. until business for the day is completed.

ADDRESSES: All meetings will be held at National Marine Fisheries Service, Southwest Regional Office, Glenn M. Anderson Federal Office Building, Suite 4200, Large Conference Room, 501 West Ocean Boulevard, Long Beach, CA 90802; telephone: (562) 980-4000.

Council address: Pacific Fishery Management Council, 7700 NE Ambassador Place, Suite 101, Portland, OR 97220-1384.

FOR FURTHER INFORMATION CONTACT: Mr. Mike Burner, Pacific Fishery Management Council; telephone: (503) 820-2280.

SUPPLEMENTARY INFORMATION: The CPSMT will also review the 2007 CPS Stock Assessment and Fishery Evaluation (SAFE) document. The CPSMT and CPSAS will develop recommendations for Council consideration at its June meeting in Foster City, CA, and address other issues relating to CPS management, including implementation of the reauthorized Magnuson-Stevens Fishery Conservation and Management Act, review of State reduction fishery regulations, the Council's proposed Ecosystem Fishery Management Plan, and CPS fishery sampling methods.

Although non-emergency issues not contained in this notice may arise during the CPSMT and CPSAS meetings, those issues may not be the subject of formal action during this meeting. Formal action will be restricted to those issues specifically listed in this notice and any issues arising after publication of this notice that require emergency action under Section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Entry to the Southwest Regional Office in the Glenn M. Anderson Federal Office Building requires valid picture identification and there are no weapons (including pocket knives), cameras, or cell phones with camera capability allowed.

Dated: April 16, 2007.
Tracey L. Thompson,
Acting Director, Office of Sustainable Fisheries, National Marine Fisheries Service.

[FR Doc. E7-7420 Filed 4-18-07; 8:45 am]

BILLING CODE 3510-22-S